DEPARTMENT OF THE TREASURY

Privacy Act of 1974; System of Records

AGENCY: Department of the Treasury.

ACTION: Notice of modified systems of records.

SUMMARY: In accordance with the Privacy Act of 1974, the Department of the Treasury (“Treasury” or the “Department”) proposes to modify a system of records notice relating to the Treasury system of records titled, “Department of the Treasury Civil Rights Complaints, Compliance Reviews, and Fairness in Federal Programs Files.”

DATES: Submit comments on or before March 29, 2023. The modification will be applicable on February 27, 2023, unless Treasury receives comments and determines that changes to the system of records notice are necessary.

ADDRESSES: Comments may be submitted to the Federal eRulemaking Portal electronically at http://www.regulations.gov. Comments can also be sent to the Deputy Assistant Secretary for Privacy, Transparency, and Records, Department of the Treasury, 1500 Pennsylvania Avenue NW, Washington, DC 20220, Attention: Revisions to Privacy Act Systems of Records. All comments received, including attachments and other supporting documents, are part of the public record and subject to public disclosure. All comments received will be posted without change to www.regulations.gov, including any personal information provided. You should submit only information that you wish to make publicly available.

FOR FURTHER INFORMATION CONTACT: For general questions and questions regarding privacy issues, please contact: the Deputy Assistant Secretary for Privacy, Transparency, and Records (202-622-5710), Department of the Treasury, 1500 Pennsylvania Avenue NW, Washington, DC 20220.

SUPPLEMENTARY INFORMATION: In accordance with the Privacy Act of 1974, as amended (5 U.S.C. 552a), the Department of the Treasury (Treasury), proposes to modify a system of records notice, 81 FR 78266, relating to the Treasury system of records titled, “Department of the Treasury, Civil Rights Complaints, Compliance Reviews, and Fairness in Federal Programs Files.”

Treasury is making changes to this system of records notice to delete one system location and system manager (to reflect Treasury realignment and consolidation of bureaus); to expand the scope of the “Compliance Review Files” referenced in the original notice (81 FR 78266) to cover information used to analyze the distribution of program resources under various Treasury programs and authorities such as the State Small Business Credit Initiative (SSBCI), including for fairness, equity, and opportunity; changing the name of the system and other changes to describe more specifically that records regarding compliance reviews to ensure fairness in Federal programs may include information collected or used by various Treasury bureaus or offices to analyze the distribution of federal resources, including to promote the allocation of Federal resources to advance fairness, equity, and opportunity; and to reflect the change in the name of the “Treasury Office of Civil Rights and Diversity” (OCRD) to the “Office of Civil Rights and Equal Economic Opportunity” (OCRE).

The expansion of the scope of Compliance Review Files covered by this system could have an impact on privacy. To reduce the impact on privacy, Treasury conducted a Privacy and Civil Liberties Impact Assessment with respect to its collection of certain sensitive data through the SSBCI program, which carefully considered the risks, benefits, and controls for collecting this information. Data collected through SSBCI reports is described in published SSBCI Capital Program Reporting Guidance, which underwent review by the Office of Management and Budget, including through the Paperwork Reduction Act process (OMB control number 1505-0227). Treasury has also published an Interim Final Rule describing the purpose and relevant authorities for the collection of certain demographic data. See 87 FR 13633 (Mar. 10, 2022). Treasury has provided a report of this system of records to the Committee on Oversight and Government Reform of the House of Representatives, the Committee on Homeland Security and Governmental Affairs of the Senate, and OMB, pursuant to 5 U.S.C. 552a(r) and OMB Circular A-108, “Federal Agency Responsibilities for Review, Reporting, and Publication under the Privacy Act,” dated December 23, 2016.

Dated: 22 February 2023.
Ryan Law,
Deputy Assistant Secretary for Privacy, Transparency, and Records.

SYSTEM NAME AND NUMBER:

Department of the Treasury, .013, Civil Rights Complaints, Compliance Reviews, and Fairness in Federal Programs Files.

SECURITY CLASSIFICATION:

Unclassified

SYSTEM LOCATION:

These records are located in the Department of the Treasury's (Treasury) Office of Civil Rights and Equal Employment Opportunity (OCRE), the Office of the General Counsel, and any other office within a Treasury bureau or office where a complaint is filed, an action arises, data is collected, or a compliance review or analysis is conducted to advance fairness, equity and opportunity in Federal programs or to analyze the distribution of Federal resources, including to underserved communities.

The locations at which the system is maintained are:

(1) a. Departmental Offices (DO): 1500 Pennsylvania Ave. NW, Washington, DC 20220.

b. The Office of Inspector General (OIG): 740 15th Street NW, Washington, DC 20220.

c. Treasury Inspector General for Tax Administration (TIGTA): 1125 15th Street NW, Suite 700A, Washington, DC 20005.

d. Special Inspector General for the Troubled Asset Relief Program (SIGTARP), 1801 L Street NW, Washington, DC 20220.

(2) Alcohol and Tobacco Tax and Trade Bureau (TTB): 1310 G St. NW, Washington, DC 20220.

(3) Office of the Comptroller of the Currency (OCC): 400 7th Street SW, Washington, DC 20024.

(4) Bureau of Engraving and Printing (BEP): 14th & C Streets SW, Washington, DC 20228.

(5) Bureau of the Fiscal Service (FS): 401 14th Street SW, Washington, DC 20227.

(6) Internal Revenue Service (IRS): 1111 Constitution Avenue NW, Washington, DC 20224.

(7) United States Mint (MINT): 801 9th Street NW, Washington, DC 20220.

(8) Financial Crimes Enforcement Network (FinCEN), Vienna, VA 22182-0039.

SYSTEM MANAGER(S):

Department of the Treasury: Official prescribing policies and practices: Director, Office of Civil Rights and Equal Employment Opportunity.

The system managers for the Treasury components are:

(1) Treasury: OCRE, External Civil Rights Program Manager, 1500 Pennsylvania Avenue NW, Washington, DC 20220.

(2) a. DO: Office of EEO, EEO Director, 1500 Pennsylvania Avenue NW, Washington, DC 20220; the manager of any DO Office where a complaint, compliance review, or a data collection or review to advance fairness, equity and opportunity in Federal programs or the analysis regarding the distribution of Federal resources originated.

b. OIG: EEO and Diversity Manager, 740 15th Street NW, Suite 500, Washington, DC 20220.

c. TIGTA: EEO Program Manager, 1125 15th Street NW, Suite 700A, Washington, DC 20005.

d. SIGTARP: EEO Program Manager, 1801 L Street NW, 3rd Floor, Washington, DC 20220.

(3) TTB: EEO Officer, 1310 G Street NW, Suite 300W, Washington, DC 20220.

(4) OCC: Director, Workplace Fairness and Equal Opportunity, 400 7th Street SW, Washington, DC 20024.

(5) BEP: Chief, Office of Equal Opportunity and Diversity Management, 14th and C Street SW, Room 639-17, Washington, DC 20228.

(6) FS: EEO Officer, PG Center, Building 2, Room 137, 3700 East-West Highway, Hyattsville, MD 20782.

(7) IRS: Chief, External Civil Rights Unit, 1111 Constitution Avenue NW, Suite 2219, Washington, DC 20224.

(8) U.S. Mint: Chief, Chief, Diversity Management and Civil Rights, 801 9th Street NW, 3rd Floor, Washington, DC 20220.

(9) FinCEN: Chief, Outreach and Workplace Solutions, 2070 Chain Bridge Road, Suite 200, Vienna, VA 22182.

AUTHORITY FOR MAINTENANCE OF THE SYSTEM:

Title VI of the 1964 Civil Rights Act of 1964; sections 504 and 508 of the Rehabilitation Act of 1973; the Age Discrimination Act of 1975; and Title IX of the Education Amendments Act of 1972; Executive Order 13985, Advancing Racial Equity and Support for Underserved Communities Through the Federal Government; (Jan. 20, 2021) as well as Federal program statutes that may exist from time to time, as applicable.

PURPOSE(S) OF THE SYSTEM:

The complaint files and other records will be used to enforce and ensure compliance with and implementation of the legal authorities listed above. Treasury uses the information in this system to investigate complaints and to obtain compliance with civil rights laws and related regulations and executive orders.

Treasury uses the system to investigate complaints and in reviewing Treasury programs and activities to ensure compliance with the Federal laws which prohibit discrimination on the basis of race, color, national origin, sex, age, and disability. Treasury also uses the system to review Treasury programs and their participants to determine if these programs comply with relevant federal laws, regulations, and executive orders, including those related to discrimination. Treasury also uses demographic-related records for reporting purposes and for the purpose of understanding program outcomes. Treasury bureaus and offices also use the system to conduct analysis of the distribution of Federal resources, including to advance equity and opportunity, including to underserved communities. The system also contains annual or other periodically recorded statistical data submitted to and used by the OCRE and the bureaus or offices, as applicable, in monitoring the compliance status of recipients of Treasury financial assistance.

CATEGORIES OF INDIVIDUALS COVERED BY THE SYSTEM:

Covered individuals include persons who file complaints alleging discrimination or violation of their rights under the statutes identified above (Authority for Maintenance of the system) or individuals whose information was received from covered entities (e.g., recipients of financial assistance or other funding from Treasury such as grantees and sub-grantees), whether individuals, governments, organizations, or institutions, or those investigated by OCRE as a result of allegations of discrimination or through compliance reviews conducted by OCRE. Covered individuals also include individuals whose information was received by a Treasury bureau or office, either directly or through covered entities, in the course of Federal program application, administration, or reporting, or otherwise collected by or reported to a Treasury bureau or office (subject to OCRE review, where applicable) when conducting a compliance review or analysis of the distribution of Federal resources to advance fairness, equity and opportunity. Covered individuals also include persons who submit correspondence to OCRE related to other compliance activities (e.g., outreach and public education), and other correspondence unrelated to a complaint or review and requiring response by OCRE.

CATEGORIES OF RECORDS IN THE SYSTEM:

The system encompasses a variety of records associated with complaints, compliance reviews, and correspondence. The complaint files and logs include complaint allegations, information gathered during complaint investigations, findings and results of investigations, and correspondence relating to investigations, as well as status information for all complaints.

Records may include demographic or other information the collection of which is required by law, regulation, or executive order which prohibits or protects against discrimination on the basis of race, color, national origin, sex, age, or disability.

Records may also include information, including demographic, financial, or financial transaction information used to analyze distributions of resources in current or past Federal programs.

Equivalent types of information are maintained for reviews and correspondence activities (namely information gathered, findings, results, correspondence, and status).

RECORD SOURCE CATEGORIES:

Information is provided by Treasury employees, complainants and covered individuals or entities.

ROUTINE USES OF RECORDS MAINTAINED IN THE SYSTEM, INCLUDING CATEGORIES OF USERS AND PURPOSES OF SUCH USES:

These records may be used to disclose pertinent information to:

(1) To the United States Department of Justice (“DOJ”), for the purpose of representing or providing legal advice to the Department in a proceeding before a court, adjudicative body, or other administrative body before which the Department is authorized to appear, when such proceeding involves:

(a) The Department or any component thereof;

(b) Any employee of the Department in his or her official capacity;

(c) Any employee of the Department in his or her individual capacity where DOJ or the Department has agreed to represent the employee; or

(d) The United States, when the Department determines that litigation is likely to affect the Department or any of its components; and the use of such records by the DOJ is deemed by the DOJ or the Department to be relevant and necessary to the litigation provided that the disclosure is compatible with the purpose for which records were collected.

(2) To an appropriate federal, state, tribal, local, international, or foreign law enforcement agency or other appropriate authority charged with investigating or prosecuting a violation or enforcing or implementing a law, rule, regulation, or order, where a record, either on its face or in conjunction with other information, indicates a violation or potential violation of law, which includes criminal, civil, or regulatory violations;

(3) Provide information to a Congressional office in response to an inquiry made at the request of the individual to whom the record pertains;

(4) Another Federal agency, to a court, or a party in litigation before a court or in an administrative proceeding being conducted by a Federal agency, when the Federal Government is a party to the judicial or administrative proceeding when relevant and necessary.

(5) The National Archives and Records Administration (“NARA”) for use in its records management inspections and its role as an Archivist under the authority of 44 U.S.C. 2904 and 2906.

(6) Contractors and their agents, grantees, experts, consultants, and others performing or working on a contract, service, grant, cooperative agreement, or other assignment for Treasury, when necessary to accomplish an agency function related to this system of records. Individuals provided information under this routine use are subject to the same Privacy Act requirements and limitations on disclosure as are applicable to Treasury officers and employees.

(7) To appropriate agencies, entities, and person when (1) the Department of the Treasury suspects or has confirmed that there has been a breach of the system of records; (2) the Department of the Treasury has determined that as a result of the suspected or confirmed breach there is a risk of harm to individuals, the Department of the Treasury (including its information systems, programs, and operations), the Federal Government, or national security; and (3) the disclosure made to such agencies, entities, and persons is reasonably necessary to assist in connection with the Department of the Treasury's efforts to respond to the suspected or confirmed breach or to prevent, minimize, or remedy such harm;

(8) To another Federal agency or Federal entity, when the Department of the Treasury determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach;

POLICIES AND PRACTICES FOR STORAGE OF RECORDS:

Paper records, file folders and/or electronic media.

POLICIES AND PRACTICES FOR RETRIEVAL OF RECORDS:

In the case of administrative complaints, records are indexed by the complainant's name. In the case of compliance reviews, records are indexed by the name of the recipient of financial assistance. Records pertaining to Federal programs and analyses of the distribution of Federal resources to advance fairness, equity and opportunity are indexed by program and/or by program participants.

POLICIES AND PRACTICES FOR RETENTION AND DISPOSAL OF RECORDS:

Documents related to complaints and reviews are retained at OCRE or the relevant Treasury bureau or office for three years from the date the complaint is closed and then are archived at the National Archives and Records Administration for 15 years. Data and information collected to advance fairness, equity and opportunity in Federal programs or analyze the distribution of Federal resources are retained at the relevant Treasury bureau or office for 10 years, in accordance with N1-056-030-010 Item 1.b.2. Correspondence is retained for one year following the end of the fiscal year in which processed.

ADMINISTRATIVE, TECHNICAL, AND PHYSICAL SAFEGUARDS:

Treasury will ensure that the safeguards for this system conform with applicable law and policy governing the privacy and security of Federal records. These include but are not limited to the Privacy Act of 1974, and the Paperwork Reduction Act of 1995. Only authorized users have access to the records in the system. Specific access is structured around need and is determined by the person's role in the organization.

Printed materials are filed in secure cabinets in secure Federal buildings with access based on need.

RECORD ACCESS PROCEDURES:

See “Notification Procedure” below.

CONTESTING RECORD PROCEDURES:

See “Notification Procedure” below.

NOTIFICATION PROCEDURES:

Individuals seeking notification and access to any record contained in this system of records, or seeking to contest its content, may inquire in writing in accordance with instructions appearing at 31 CFR part 1, subpart C, appendices A-M. Requests for information and specific guidance on where to send requests for records may be addressed to: Privacy Act Request, DO, Director, Disclosure Services Department of the Treasury, 1500 Pennsylvania Avenue NW, Washington, DC 20220.

EXEMPTIONS PROMULGATED FOR THE SYSTEM:

Certain records in this system are exempt from 5 U.S.C. 552a(c)(3), (d)(1), (2), (3), and (4), (e)(1), (e)(4)(G), (H),and (I), and (f) of the Privacy Act pursuant to 5 U.S.C. 552a(k)(2). See 31 CFR 1.36.

HISTORY:

Notice of this system of records was last published in full in the Federal Register on November 7, 2016 (81 FR 78266) as the Department of the Treasury .013—Civil Rights Complaints and Compliance Review Files.

[FR Doc. 2023-03990 Filed 2-24-23; 8:45 am]

BILLING CODE 4810-AK-P